DEPARTMENT OF HEALTH AND HUMAN SERVICES

Administration for Children and Families

Submission for OMB Review; Comment Request

Title: Goal-Oriented Adult Learning in Self-Sufficiency Study

OMB No.: New Collection

Description: The Administration for Children and Families (ACF) is proposing a data collection activity as part of the Goal-Oriented Adult Learning in Self-Sufficiency (GOALS) study. The purpose of the GOALS project is to address the nexus between the growing knowledge base in the psychological sciences and long-standing approaches to self-sufficiency programs targeted to adults and young adults. The project will explore the programmatic implications of existing research on psychological processes associated with goal-directed behaviors, including socio-emotional regulation and cognitive skills, executive functioning, and related areas. The project will synthesize current research on these topics; address how insights gained from research can be used to promote economic advancement among low-income populations, identify promising strategies, or strengthen underlying skills in these areas; and inform measurement of changes and developments in skill acquisition.

The proposed information collection activity consists of exploratory calls with program directors and administrators, semi-structured interviews with key program staff and community partner organization staff, and focus group discussions with program participants. ACF seeks to gain an in-depth, systematic understanding of program administration and implementation, service delivery and operation, outputs and outcomes, and identify promising practices and other areas for further study.

Respondents: Key program directors and administrators, program staff and community partner organization staff, and program participants at selected program sites.

Annual Burden Estimates
Instrument | Total number of respondents | Annual number of respondents | Number of responses per respondent | Average burden hours per response | Total burden hours
Exploratory telephone call semi-structured interview—program directors and administrators | 24 | 12 | 1 | 1 | 12
Site visit semi-structured interview—program staff and community partner organization staff | 180 | 90 | 1 | 1.25 | 113
Site visit group discussion—program participants | 84 | 42 | 1 | 1.25 | 53

Estimated Total Annual Burden Hours: 178.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2015-23353 Filed 9-16-15; 8:45 am]

BILLING CODE 4184-07-P